DEPARTMENT OF TRANSPORTATION

Federal Highway Administration

Notice of Final Federal Agency Actions on Proposed Highway in Indiana

AGENCY: Federal Highway Administration (FHWA), DOT.

ACTION: Notice of Limitation on Claims for Judicial Review of Actions by FHWA and United States Fish and Wildlife Service (USFWS), DOI.

SUMMARY: This notice announces actions taken by the FHWA and the USFWS that are final within the meaning of 23 U.S.C. § 139(l)(1). The actions relate to a proposed highway project, I-69, Evansville to Indianapolis, Indiana, in the Counties of Vanderburgh, Warrick, Gibson, Pike, Daviess, Greene, Monroe, Morgan, Johnson and Marion, State of Indiana. The Federal actions, taken as a result of a tiered environmental review process under the National Environmental Policy Act, 42 U.S.C. 4321-4351 (NEPA), and implementing regulations on tiering, 40 CFR 1502.20, 40 CFR 1508.28, and 23 CFR Part 771, determined certain issues relating to the proposed project. Those decisions will be used by Federal agencies in subsequent proceedings, including decisions whether to grant licenses, permits, and approvals for the highway project. The decisions also may be relied upon by State and local agencies in proceedings on the proposed project.

DATES: By this notice, the FHWA is advising the public that the FHWA and the USFWS have made decisions that are subject to 23 U.S.C. 139(l)(1) and are final within the meaning of that law. A claim seeking judicial review of those Federal agency decisions on the proposed highway project will be barred unless the claim is filed on or before October 15, 2007. If the Federal law that authorizes judicial review of a claim provides a time period of less than 180 days for filing such claim, then the shorter time period applies.

FOR FURTHER INFORMATION CONTACT: For the FHWA: Mr. Anthony DeSimone, P.E., Federal Highway Administration, Indiana Division, 575 North Pennsylvania Street, Room 254, Indianapolis, IN 46204-1576; telephone: (317) 226-5307; e-mail: Anthony.DeSimone@fhwa.dot.gov. The FHWA Indiana Division Office's normal business hours are 7:30 a.m. to 4 p.m., e.t. For the USFWS: Mr. Scott Pruitt, Field Supervisor, Bloomington Field Office, USFWS, 620 South Walker Street, Bloomington, IN 47403-2121; telephone: 812-334-4261; e-mail: Scott_Pruitt@fws.gov. Normal business hours for the USFWS Bloomington Field Office are: 8 a.m. to 4:30 p.m., e.t. You may also contact Mr. Thomas Seeman, Project Manager, Indiana Department of Transportation (INDOT), 100 North Senate Avenue, Indianapolis, IN 46204; telephone: (317) 232-5336; e-mail: TSeeman@indot.IN.gov. Normal business hours for the Indiana Department of Transportation are: 8 a.m. to 4:30 p.m., e.t.

SUPPLEMENTARY INFORMATION: Notice is hereby given that the FHWA has approved a Tier 1 Final Environmental Impact Statement (FEIS) and issued a Record of Decision (ROD) in connection with a proposed highway project in the State of Indiana: I-69 from Evansville to Indianapolis, in Vanderburgh, Warrick, Gibson, Pike, Daviess, Greene, Monroe, Morgan, Johnson and Marion Counties. The project will be an approximately 142 mile long Interstate highway. It will begin at the I-64/I-164 interchange just north of Evansville, Indiana and end at I-465 in Indianapolis, to the west of the I-465/SR 37 interchange. The proposed freeway will be on both new and existing alignment.

Decisions in the FHWA Tier 1 ROD that have final approval include, but are not limited to, the following:

1. Purpose and need for the project (see section 3.1).

2. Range of alternatives for analysis (see sections 3.3 and 3.4).

3. Selection of the Interstate highway build alternative and highway corridor for the project. The selected alternative, referred to in the FEIS as Alternative 3C, involves completing I-69 as an Interstate highway from Evansville to Indianapolis via Oakland City, Washington, Crane Naval Surface Warfare Center, Bloomington, and Martinsville (see section 2.1). This alternative includes the use of parts of the existing alignment of SR 37 to reach I-465 and the route variation known as WE2 in the area of Washington, Indiana. The ultimate alignment of the highway within the corridor, and the location and number of interchanges and rest areas will be evaluated in the Tier 2 National Environmental Policy Act (NEPA) proceedings.

4. Elimination of other alternatives from consideration in Tier 2 NEPA proceedings. The alternatives that will not be considered any further include, but are not limited to, those identified in the Tier 1 FEIS as the “no build” alternative, and alternatives 1, 2A, 2B, 2C, 3A, 3B, 4A, 4B, 5A, and 5B. Also eliminated were a number of hybrids and variations on these alternatives, including the “Mann Road Variation” for reaching I-465 and variations WW1, WW2, and WE1 in the area of Washington, Indiana. Detailed information about the alternatives considered in Tier 1, and about the Federal decisions that eliminate alternatives other than Alternative 3C from further consideration, is available in section 3 of the Tier 1 ROD and the Tier 1 FEIS sections cited therein.

5. Process for completing the Tier 2 alternatives analysis and studies for the project, including the designation of six Tier 2 sections and a decision to prepare a separate environmental impact statement for each Tier 2 section (see section 2.3).

Interested parties may consult the Tier 1 ROD and Tier 1 FEIS for details about each of the decisions described above and for information on other issues decided. The documents are available as described below.

Following the completion of the Tier 1 ROD, interested parties submitted comments suggesting that new information existed that might affect the Tier 1 FEIS analyses and the Federal decisions based on those analyses. In response, the FHWA reevaluated the project and decided that the changes that occurred following the ROD did not individually or collectively require supplementation of the Tier 1 FEIS.

The Tier 1 FEIS (issued on December 5, 2003), the Tier 1 ROD (issued on March 24, 2004), the FHWA decision that supplementation of the Tier 1 FEIS is not required (issued on February 12, 2007), and other documents in the project records are available by contacting the FHWA or the INDOT at the addresses provided above. Interested parties also may view or download the FHWA Tier 1 FEIS, Tier 1 ROD, the decision not to prepare a Tier 1 supplemental EIS, the related reevaluation report, and INDOT responses to comments on the reevaluation report at the project Web site, http://deis.i69indyevn.org/, or by contacting FHWA or INDOT at the addresses listed above.

Actions taken by the USFWS, pursuant to the Endangered Species Act, 16 U.S.C. 1531-1544, include its concurrence with the FHWA's determination that the I-69 project is not likely to adversely affect the eastern fanshell mussel (Cyprogenia stegaria) and that the project is still likely to adversely affect, but not jeopardize, the bald eagle. The USFWS concluded that the project is not likely to jeopardize the continued existence of the Indiana bat and is not likely to adversely modify the bat's designated Critical Habitat. The USFWS decisions are described in the Programmatic Biological Opinion issued on December 3, 2003, the Revised Programmatic Biological Opinion issued on August 24, 2006, and other documents in the project records. These opinions, and other project records relating to the USFWS actions, are available by contacting the FHWA, INDOT, or USFWS at the addresses provided above. The Programmatic Biological Opinion can be viewed in the Appendices Section and downloaded from the project Web site at http://deis.i69indyevn.org/FEIS/index.html and the Revised Programmatic Biological Opinion can be viewed and downloaded from the project Web site at http://i69indyevn.org/Corridor_Reports/corridor_reports.html.

This notice applies to all Federal agency decisions that are final within the meaning of 23 U.S.C. 139(1)(1) as of the issuance date of this notice, and to all laws under which such actions were taken. The laws include, but are not limited to:

1. National Environmental Policy Act (NEPA) [42 U.S.C. 4321-4351].

2. Federal-Aid Highway Act [23 U.S.C. 109 and 23 U.S.C. 128].

3. Endangered Species Act [16 U.S.C. 1531-1544].

4. National Historic Preservation Act of 1966, as amended [16 U.S.C. 470 et seq.].

5. Section 4(f) of the Department of Transportation Act of 1966 [49 U.S.C. 303 and 23 U.S.C. 138].

6. Clean Air Act [42 U.S.C. 7401-7671(q)].

(Catalog of Federal Domestic Assistance Program Number 20.205, Highway Planning and Construction. The regulations implementing Executive Order 12372 regarding intergovernmental consultation on Federal programs and activities apply to this program.)

Authority: 23 U.S.C. 139(l)(1).

Robert F. Tally Jr.,
Division Administrator, Indianapolis, Indiana.

[FR Doc. E7-7231 Filed 4-16-07; 8:45 am]

BILLING CODE 4910-RY-P